DEPARTMENT OF COMMERCE

Foreign-Trade Zones Board

[Docket 47-2009]

Foreign-Trade Zone 121—Albany, NY; Application for Expansion and Reorganization Under Alternative Site Framework

An application has been submitted to the Foreign-Trade Zones (FTZ) Board (the Board) by the Capital District Regional Planning Commission, grantee of FTZ 121, requesting authority to expand the zone and reorganize under the alternative site framework (ASF) adopted by the Board (74 FR 1170, 01/12/09; correction 74 FR 3987, 01/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the provisions of the Foreign-Trade Zones Act, as amended (19 U.S.C. 81a-81u), and the regulations of the Board (15 CFR part 400). It was formally filed on November 3, 2009.

The grantee's proposed service area under the ASF would be Albany, Columbia, Greene, Fulton, Montgomery, Rensselaer, Saratoga, Schenectady, Warren and Washington counties, New York. If approved, the grantee would be able to serve sites throughout the service area based on companies' needs for FTZ designation. The proposed service area is adjacent to or within the Albany Customs and Border Protection port of entry.

FTZ 121 was approved by the Board on July 18, 1985 (Board Order 307, 50 FR 30986, July 31, 1985) and expanded on September 25, 1997 (Board Order 922, 62 FR 51830, October 3, 1997). The applicant is requesting to include its current sites as “magnet sites”: Site 1, Northeastern Industrial Park, expanding the site from 20 acres to 514 acres; Site 2, Rotterdam Industrial Park, expanding the site from 7 acres to 225 acres; and Site 3, Port of Albany, expanding the site from 35 acres to 277 acres. The applicant has requested that Site 4, Crossroads Industrial Park be removed from FTZ 121. The applicant is also requesting approval of the following additional “magnet sites”: Site 5, 281 acres, Saratoga Technology + Energy Park, 10 Hermes Road, Malta, NY 12020; Site 6, 1192 acres, Luther Forest Technology Campus, 40 Rocket Test Station Road, Malta, NY 12020; Site 7, 133 acres, Florida Business Park Extension, State Highway 5S, Amsterdam, NY 12010. The applicant proposes that Site 6 be subject to a seven-year “sunset” time limit, instead of the standard five-year “sunset” time limit that would otherwise apply to magnet sites under the ASF.

In accordance with the Board's regulations, Maureen Hinman of the FTZ staff is designated examiner to evaluate and analyze the facts and information presented in the application and case record and to report findings and recommendations to the Board.

Public comment is invited from interested parties. Submissions (original and 3 copies) shall be addressed to the Board's Executive Secretary at the address listed below. The closing period for their receipt is January 11, 2010. Rebuttal comments in response to material submitted during the foregoing period may be submitted during the subsequent 15-day period (to January 25, 2010)

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Maureen Hinman at maureen.hinman@trade.gov or (202) 482-0627.

Dated: November 3, 2009.
Elizabeth Whiteman,
Acting Executive Secretary.

[FR Doc. E9-27094 Filed 11-9-09; 8:45 am]

BILLING CODE 3510-DS-P